DEPARTMENT OF THE INTERIOR

National Park Service

[NPS-WASO-CONC-24213; PPWOBSADC0, PPMVSCS1Y.Y00000]

Notice of Extension of Concession Contracts and Intent To Award Temporary Concession Contracts

AGENCY: National Park Service, Interior.

ACTION: Public notice.

SUMMARY: The National Park Service hereby gives public notice that it proposes to extend the expiring concession contracts listed in the tables below for the period specified, or until the effective date of a new contract, whichever occurs sooner. The National Park Service hereby gives public notice that it intends to award two temporary concession contracts as described below.

DATES: The extension commences on January 1, 2018.

FOR FURTHER INFORMATION CONTACT: Brian Borda, Program Chief, Commercial Services Program, National Park Service, 1849 C Street NW, Mail Stop 2410, Washington, DC 20240, Telephone: 202-513-7156.

SUPPLEMENTARY INFORMATION: All of the concession contracts listed in the first two tables below will expire by their terms on or before December 31, 2018. The National Park Service has determined the proposed extensions and temporary contracts are necessary to avoid interruption of visitor services and has taken all reasonable and appropriate steps to consider alternatives to avoid such interruption. The publication of this notice merely reflects the intent of the National Park Service and does not bind the National Park Service to extend or award any of the contracts listed below.

The information in the first table shows concession contracts extended until December 31, 2018, or until the effective date of a new concession contract, whichever occurs first. The information in the second table shows concession contracts extended until the specific date shown in that table, or until the effective date of a new concession contract, whichever occurs first. Under the provisions of current concession contracts, the National Park Service authorizes extension of visitor services for the contracts below under the terms and conditions of the current contract (as amended if applicable). The extension of operations does not affect any rights with respect to selection for award of a new concession contract.

The information in the third table shows two concession contracts for which the National Park Service intends to award temporary concession contracts to qualified persons under the authority of 36 CFR 51.24(a), each such contract not to exceed three years. This notice is not a request for proposals.

Table 1—Concession Contracts Extended Until December 31, 2018, or Until the Effective Date of a New Contract
Park unit | CONCID | Concessioner
Bandelier NM | BAND001-06 | Pajarito Plateau Trading Co. LLC.
Buffalo NR | BUFF001-06 | Buffalo Point Concession.
Buck Island Reef NM | BUIS006-06 | Teroro II, Inc.
Buck Island Reef NM | BUIS008-06 | Llewellyn's Charters, Inc.
Buck Island Reef NM | BUIS014-06 | Michael Klein.
Buck Island Reef NM | BUIS015-07 | Mile Mark, Inc.
Buck Island Reef NM | BUIS019-06 | Dragon Fly.
Cabrillo NM | CABR001-06 | Cabrillo National Monument Foundation.
Canyonlands NP | CANY031-07 | Holiday River Expeditions, Inc.
Canyonlands NP | CANY032-07 | Escape Adventures, Inc.
Canyonlands NP | CANY033-07 | Mike & Maggie Adventures, LLC.
Canyonlands NP | CANY034-07 | Rim Tours, Inc.
Canyonlands NP | CANY035-07 | Western Spirit Cycling, Inc.
Carlsbad Caverns NP | CAVE001-08 | Carlsbad Caverns Trading, LLC.
Craters of the Moon NM&P | CRMO001-06 | Craters of the Moon Natural History Ass'n.
Denali NP&P | DENA013-07 | Denali Nat'l Park Wilderness Centers LTD.
Denali NP&P | DENA015-07 | Doyon, Limited.
Denali NP&P | DENA016-07 | Alaskan Park Properties, Inc.
Denali NP&P | DENA024-07 | Sheldon Air Service LLC.
Denali NP&P | DENA025-07 | Rust's Air Service, Inc.
Denali NP&P | DENA028-07 | Fly Denali, Inc.
Denali NP&P | DENA029-07 | Talkeetna Air Taxi, Inc.
Death Valley NP | DEVA004-06 | Death Valley Natural History Association.
Eisenhower NHS | EISE001-07 | Gettysburg Tours, Inc.
George Washington M Pkwy | GWMP003-13 | Belle Haven Marina, Inc.
Glacier NP | GLAC006-07 | Glacier Guides, Inc.
Golden Gate NRA | GOGA007-06 | Golden Gate National Parks Conservancy.
Golden Gate NRA | GOGA010-98 | The Peanut Wagon.
Grand Canyon NP | GRCA002-08 | Grand Canyon North Rim, LLC.
Grand Canyon NP | GRCA006-08 | AzRA Acquisition, LLC.
Grand Canyon NP | GRCA007-08 | Arizona River Runners, Inc.
Grand Canyon NP | GRCA010-08 | Canyoneers, Inc.
Grand Canyon NP | GRCA011-08 | Colorado River & Trail Expeditions, Inc.
Grand Canyon NP | GRCA015-08 | Grand Canyon Expeditions Company, Inc.
Grand Canyon NP | GRCA016-08 | Canyon Expeditions, Inc.
Grand Canyon NP | GRCA017-08 | Grand Canyon Whitewater, LLC.
Grand Canyon NP | GRCA018-08 | Hatch River Expeditions, Inc.
Grand Canyon NP | GRCA020-08 | Arizona Raft Adventures, LLC.
Grand Canyon NP | GRCA021-08 | O.A.R.S. Grand Canyon, Inc.
Grand Canyon NP | GRCA022-08 | Outdoors Unlimited River Trips.
Grand Canyon NP | GRCA024-08 | ARAMARK Sports & Entertainment Services, Inc.
Grand Canyon NP | GRCA025-08 | Tour West, Inc.
Grand Canyon NP | GRCA026-08 | Western River Expeditions, Inc.
Grand Canyon NP | GRCA028-08 | Canyon Explorations, Inc.
Grand Canyon NP | GRCA029-08 | GCD Acquisition, LLC.
Great Smoky Mountain NP | GRSM006-07 | Smoky Mountain Stables, Inc.
Hawai'i Volcanoes NP | HAVO002-06 | Hawai'i Pacific Parks Association, Ltd.
Isle Royale NP | ISRO007-08 | Grand Portage-Isle Royale Transportation Line, Inc.
Joshua Tree NP | JOTR001-06 | Joshua Tree National Park Association.
Lava Beds NM | LABE001-06 | Lava Beds Natural History Association.
Little Bighorn Battlefield NM | LIBI003-06 | Crow Tribe of Indians.
Oregon Caves NM&P | ORCA002-06 | Oregon Caves Natural History Association.
Point Reyes NS | PORE004-06 | Point Reyes National Seashore Association.
Pacific West Reg. Office | PWRO001-06 | Western National Parks Association.
Rocky Mountain NP | ROMO002-02 | Hi Country Stables, Inc.
Sleeping Bear Dunes NL | SLBE005-08 | Manitou Island Transit, Inc.
WW II Valor in the Pacific NM | USAR002-06 | Arizona Memorial Museum Association.
Yellowstone NP | YELL004-08 | Yellowstone Park Service Stations, Inc.

Table 2—Concession Contracts Extended as Indicated or Until the Effective Date of a New Contract
Park unit | CONCID | Concessioner | Extension date
Big Bend NP | BIBE002-08 | Big Bend Resorts, Inc | June 30, 2019.
Golden Gate NRA | GOGA001-06 | Alcatraz Cruises, LLC | May 8, 2019.
Golden Gate NRA | GOGA004-08 | The Siren Corp | February 28, 2019.
Lake Roosevelt NRA | LARO004-07 | Lake Roosevelt Vacations, Inc | April 30, 2019.
Point Reyes NS | PORE005-08 | Steward Ranch, LLC | March 31, 2019.

Table 3—Temporary Concession Contracts
Park unit | CONCID | Services | Effective date
Virgin Islands NP | VIIS008 | Charter Diving, Charter Snorkeling, Charter Sailing | April 13, 2018.
Yellowstone NP | YELL002 | Retail, Food and Beverage, Groceries | January 1, 2019.

Teresa Austin,
Associate Director, Business Services.

[FR Doc. 2018-04028 Filed 2-27-18; 8:45 am]

BILLING CODE 4312-53-P